INTERNATIONAL TRADE COMMISSION

[Investigation No. 337-TA-1380]

Certain Video Capable Electronic Devices, Including Computers, Streaming Devices, Televisions, and Components and Modules Thereof; Notice of a Commission Determination To Grant a Joint Motion To Terminate the Investigation in Its Entirety Based on Settlement; Termination of the Investigation

AGENCY: U.S. International Trade Commission.

ACTION: Notice.

SUMMARY: Notice is hereby given that the U.S. International Trade Commission (“Commission”) has determined to grant a joint motion to terminate the investigation in its entirety based on settlement. The investigation is hereby terminated.

FOR FURTHER INFORMATION CONTACT: Robert J. Needham, Esq., Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the above-captioned investigation on December 6, 2023, based on a complaint filed by complainants Nokia Technologies Oy and Nokia Corporation, both of Espoo, Finland (“Nokia”). 88 FR 84830-31 (Dec. 6, 2023). The complaint, as supplemented, alleges a violation of section 337 based upon the importation into the United States, the sale for importation, and the sale within the United States after importation of certain video capable electronic devices, including computers, streaming devices, televisions, and components and modules thereof by reason of the infringement of claims 6-9, 11, 15, 21, and 23 of U.S. Patent No. 7,724,818 (“the '818 patent”); claims 1-30 of U.S. Patent Nos. 10,536,714 (“the '714 patent”); claims 1-36 of U.S. Patent No. 11,805,267 (“the '267 patent”); claims 1, 5, 6, 8-13, 17, 18, 20-24, 26, 29-33, 35, and 38 of U.S. Patent No. 8,077,991 (“the '991 patent”); and claims 8-11 of U.S. Patent No. 8,050,321 (“the '321 patent”). Id. at 84830. The complaint further alleges that an industry in the United States exists. Id. The notice of investigation names as respondents HP, Inc. of Palo Alto, California (“HP”), and Amazon.com, Inc. and Amazon.com Services LLC, both of Seattle, Washington (“Amazon”). Id. The Office of Unfair Import Investigations (“OUII”) is participating in the investigation for the purposes of the public interest only. Id. at 84831.

The Commission terminated the investigation based on a partial withdrawal of the complaint with respect to claims 7, 11, 21, and 23 of the '818 patent; claims 1-22, and 24-30 of the '714 patent; claims 1-24, and 28-36 of the '267 patent; claims 1, 5-6, 8-9, 10-13, 17, 18, 20-21, 23-24, 26, 30, 32, 33, and 35 of the '991 patent; and claims 9 and 11 of the '321 patent. Order No. 19 (Feb. 14, 2024), unreviewed by Comm'n Notice (Mar. 8, 2024) (terminating the investigation with respect to claim 23 of the '818 patent); Order No. 42 (Sept. 3, 2024), unreviewed by Comm'n Notice (Sept. 17, 2024) (terminating the investigation with respect to claims 11 and 21 of the '818 patent; claims 1-14, 16-22, and 24-30 of the '714 patent; claims 1-6, 10-24, and 28-36 of the '267 patent; claims 1, 5-6, 8-9, 10-13, 17, 18, 20-21, 23-24, 26, 30, 32, 33, and 35 of the '991 patent and claims 9 and 11 of the '321 patent); Order No. 46 (Sept. 17, 2024), unreviewed by Comm'n Notice (Oct. 1, 2024) (terminating the investigation with respect to claim 7 of the '818 patent); Order No. 48 (Nov. 25, 2024), unreviewed by Comm'n Notice (Dec. 10, 2024) (terminating the investigation with respect to claim 15 of the '714 patent and claims 7-9 of the '267 patent). Accordingly, at the time of the Final ID, the asserted claims consisted of: claims 6, 8, 9 and 15 of the '818 patent; claims 8 and 10 of the '321 patent; claims 22, 29, 31, and 38 of the '991 patent; claims 15 and 23 of the '714 patent; and claims 7-9 and 25-27 of the '267 patent. Final ID at 6.

On August 12, 2024, the ALJ granted summary determination that Nokia failed to establish the economic prong of the domestic industry requirement under subsection 337(a)(3)(C) by failing to present evidence of a nexus between its investments and the domestic industry articles. Order No. 41 (Aug. 12, 2024). The Commission declined to review that ID. Comm'n Notice (Sept. 10, 2024).

The ALJ held an evidentiary hearing from September 9-13, 2024. Subsequently, the Commission terminated the investigation with respect to HP based on a settlement agreement. Order No. 49 (Nov. 27, 2024), unreviewed by Comm'n Notice (Dec. 10, 2024). Accordingly, at the time of the Final ID, only Amazon remained in the investigation as a respondent.

On December 20, 2024, the ALJ issued the Final ID finding a violation of section 337 by Amazon with respect to four patents—the '818, '321, '714, and '267 patents—and no violation with respect to the '991 patent. Final ID at 175. The Commission determined to review the Final ID in its entirety. 90 FR 11183-86 (Mar. 4, 2025).

On April 8, 2025, Nokia and Amazon moved, pursuant to 19 CFR 210.21(b), to terminate the investigation based on settlement. The motion contains attached settlement agreements (including a public version) and indicates that there are no other agreements between the parties regarding the subject matter of the investigation. On April 11, 2025, OUII responded to the motion by arguing that the public version of the settlement agreements are over-redacted, but that the motion should be granted if Nokia and Amazon provide a version of the settlement agreements with fewer redactions. On April 16, 2025, the Nokia and Amazon provided a new public version with fewer redactions.

Upon review of the parties' submission, the Commission has determined to grant the joint motion and terminate Amazon from the investigation. As Amazon is the last remaining respondent group, the investigation is hereby terminated in its entirety.

The Commission vote for this determination took place on April 23, 2025.

The authority for the Commission's determination is contained in section 337 of the Tariff Act of 1930, as amended (19 U.S.C. 1337), and in Part 210 of the Commission's Rules of Practice and Procedure (19 CFR part 210).

By order of the Commission.
Issued: April 23, 2025.
Lisa Barton,
Secretary to the Commission.

[FR Doc. 2025-07323 Filed 4-28-25; 8:45 am]

BILLING CODE 7020-02-P